DEPARTMENT OF THE INTERIOR

Fish and Wildlife Service

[FWS-R2-ES-2022-N052 FXES11130200000-223-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act (ESA) prohibits certain activities that may impact endangered species unless a Federal permit allows such activity. The ESA also requires that we invite public comment before issuing these permits.

DATES: To ensure consideration, please submit your written comments by November 3, 2022.

ADDRESSES:

Document availability: Request documents by phone or email: Marty Tuegel 505-248-6651, marty_tuegel@fws.gov.

Comment submission: Submit comments by email to fw2_te_permits@fws.gov. Please specify the permit application you are interested in by number (e.g., Permit Record No. PER1234567).

FOR FURTHER INFORMATION CONTACT: Marty Tuegel, Supervisor, Environmental Review Division, 505-248-6651. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER0047822 | Snipes, Katie; Austin, Texas | Golden-cheeked warbler (Setophaga chrysoparia), whooping crane (Grus americana), Houston toad (Bufo houstonensis), red-cockaded woodpecker (Picoides borealis), Barton Springs salamander (Eurycea sosorum), Austin blind Salamander (Eurycea waterlooensis) | Texas | Presence/absence surveys, habitat assessment, nest monitoring | Harass, harm | New.
PER0051491 | U.S. Army Corps of Engineers; Albuquerque, New Mexico | Rio Grande silvery minnow (Hybognathus amarus) | Mississippi | Research to develop eDNA markers, collect tissue | Harass, harm, collect, kill | Amend.
PER0051559 | Texas A&M University—Mateos Lab; College Station, Texas | Gila topminnow (Poeciliopsis occidentalis) | Arizona | Captive propagation | Harass, harm, capture | New.
PER0051967 | Trathnigg, Heidi; Flagstaff, Arizona | Southwestern willow flycatcher (Empidonax traillii extimus), Yuma ridgway's rail (Rallus obsoletus yumanensis) | Arizona | Presence/absence surveys | Harass, harm | Renew.
PER0051964 | National Park Service—Padre Island National Seashore; Corpus Christi, Texas | Kemp's ridley sea turtle (Lepidochelys kempii), hawksbill sea turtle (Eretmochelys imbricata), leatherback sea turtle (Dermochelys coriacea) | Texas | Document and examine stranded sea turtles, capture/handle, tag, transport, necropsy, examine gut contents, track, locate/retrieve/incubate eggs, release, collect tissue/blood samples, educational display | Harass, harm, capture, collect | Renew.
PER0051968 | Thompson, Alexandra; San Marcos, Texas | Golden-cheeked warbler (Setophaga chrysoparia) | Texas | Presence/absence surveys, nest monitoring, territory mapping surveys, habitat occupancy surveys, habitat monitoring surveys, baseline preserve evaluations, land management plans, habitat determinations | Harass/harm | New.
PER0052329 | Jacobs Engineering Group; Tempe, Arizona | Spikedace (Meda fulgida), loach minnow (Tiaroga cobitis) | Arizona | Presence/absence surveys, exclusion/relocation surveys | Harass/harm | Amend.
PER0052151 | Thiels, Sabrina; Rosenberg, Texas | Big bend gambusia (Gambusia gaigei), clear creek gambusia (Gambusia heterochir), Comanche Springs pupfish (Cyprinodon elegans), fountain darter (Etheostoma fonticola), Pecos gambusia (Gambusia nobilis), San Marcos gambusia (Gambusia georgei), Leon Springs pupfish (Cyprinodon bovinus), Rio Grande silvery minnow (Hybognathus amarus), sharpnose shiner (Notropis oxyrhynchus), peppered chub (Macrhybopsis tetranema), smalleye shiner (Notropis buccula), Mexican blindcat (Prietella phreatophila), Texas hornshell (Popenaias popeii) | Texas | Presence/absence surveys, relocation | Harass/harm | New.
PER0052259 | Anchor QEA, LLC | Whooping crane (Grus americana) | Texas, Louisiana | Presence/absence surveys, monitoring, habitat usage, habitat creation/enhancement | Harass/harm | Amend.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the ESA (16 U.S.C. 1531 et seq.).

Amy L. Lueders,
Regional Director, Southwest Region, U.S. Fish and Wildlife Service.

[FR Doc. 2022-21438 Filed 10-3-22; 8:45 am]

BILLING CODE 4333-15-P